DEPARTMENT OF HEALTH AND HUMAN SERVICES

Centers for Medicare & Medicaid Services

[Document Identifier: CMS-R-262 and CMS 10196]

Agency Information Collection Activities: Proposed Collection; Comment Request

Agency: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Plan Benefit Package (PBP) and Formulary Submission for Medicare Advantage (MA) Plans and Prescription Drug Plans (PDPs); Use: Under the Medicare Modernization Act (MMA), Medicare Advantage (MA) and Prescription Drug Plan (PDP) organizations are required to submit plan benefit packages for all Medicare beneficiaries residing in their service area. CMS requires that MA and PDP organizations submit a completed formulary and PBP as part of the annual bidding process. During this process, organizations prepare their proposed plan benefit packages for the upcoming contract year and submit them to CMS for review and approval; Form Number: CMS-R-262 (OMB#: 0938-0763); Frequency: On occasion, Annually, and Other: As required by new legislation; Affected Public: Business or other for-profit and Not-for-profit institutions; Number of Respondents: 553; Total Annual Responses: 5,807; Total Annual Hours: 13,272.

2. Type of Information Collection Request: New Collection; Title of Information Collection: Medicare Part C Audit Guide, Version 4.0 and Supporting Regulation contained in 42 CFR 423.502; Use: The Medicare Modernization Act provides CMS the regulatory authority to audit, evaluate, or inspect any Part C sponsors' performance related to the law in the areas including enrollment & disenrollment, marketing, benefits and beneficiary protections, quality assurance, provider relations and contracts. The information collected will be an integral resource for oversight, monitoring, compliance, and auditing activities necessary to ensure quality provision of the Part C Medicare Advantage benefit to beneficiaries. Form Number: CMS-10196 (OMB#: 0938-New); Frequency: Recordkeeping and Reporting—Annually; Affected Public: Business or other for-profit; Number of Respondents: 393; Total Annual Responses: 393; Total Annual Hours: 12,576.

To obtain copies of the supporting statement and any related forms for the proposed paperwork collections referenced above, access CMS' Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on July 18, 2006.

CMS, Office of Strategic Operations and Regulatory Affairs, Division of Regulations Development—C, Attention: Bonnie L. Harkless, Room C4-26-05, 7500 Security Boulevard, Baltimore, Maryland 21244-1850.

Dated: May 10, 2006.
Michelle Shortt,
Director, Regulations Development Group, Office of Strategic Operations and Regulatory Affairs.

[FR Doc. E6-7510 Filed 5-18-06; 8:45 am]

BILLING CODE 4120-01-P